INTERNATIONAL TRADE COMMISSION

[Investigation Nos. 701-TA-755-756 and 731-TA-1734-1736 (Preliminary)]

Chassis and Subassemblies From Mexico, Thailand, and Vietnam

Determinations

On the basis of the record ¹ developed in the subject investigations, the United States International Trade Commission (“Commission”) determines, pursuant to the Tariff Act of 1930 (“the Act”), that there is a reasonable indication that an industry in the United States is materially injured by reason of imports of chassis and subassemblies from Mexico, Thailand, and Vietnam, provided for in subheadings 8716.39.00 and 8716.90.50 of the Harmonized Tariff Schedule of the United States, that are alleged to be sold in the United States at less than fair value (“LTFV”) and subsidized by the governments of Mexico and Thailand.²

¹ The record is defined in § 207.2(f) of the Commission's Rules of Practice and Procedure (19 CFR 207.2(f)).

² 90 FR 13452 and 90 FR 13457 (March 24, 2025).

Commencement of Final Phase Investigations

Pursuant to section 207.18 of the Commission's rules, the Commission also gives notice of the commencement of the final phase of its investigations. The Commission will issue a final phase notice of scheduling, which will be published in the Federal Register as provided in § 207.21 of the Commission's rules, upon notice from the U.S. Department of Commerce (“Commerce”) of affirmative preliminary determinations in the investigations under §§ 703(b) or 733(b) of the Act, or, if the preliminary determinations are negative, upon notice of affirmative final determinations in those investigations under §§ 705(a) or 735(a) of the Act. Parties that filed entries of appearance in the preliminary phase of the investigations need not enter a separate appearance for the final phase of the investigations. Any other party may file an entry of appearance for the final phase of the investigations after publication of the final phase notice of scheduling. Industrial users, and, if the merchandise under investigation is sold at the retail level, representative consumer organizations have the right to appear as parties in Commission antidumping and countervailing duty investigations. The Secretary will prepare a public service list containing the names and addresses of all persons, or their representatives, who are parties to the investigations. As provided in section 207.20 of the Commission's rules, the Director of the Office of Investigations will circulate draft questionnaires for the final phase of the investigations to parties to the investigations, placing copies on the Commission's Electronic Document Information System (EDIS, https://edis.usitc.gov), for comment.

Background

On February 26, 2025, the U.S. Chassis Manufacturers Coalition, whose members are Cheetah Chassis Corporation, Berwick, Pennsylvania and Stoughton Trailers LLC, Stoughton, Wisconsin, filed petitions with the Commission and Commerce, alleging that an industry in the United States is materially injured or threatened with material injury by reason of subsidized imports of chassis and subassemblies from Mexico and Thailand and LTFV imports of chassis and subassemblies from Mexico, Thailand, and Vietnam. Accordingly, effective February 26, 2025, the Commission instituted countervailing duty investigation Nos. 701-TA-755-756 and antidumping duty investigation Nos. 731-TA-1734-1736 (Preliminary).

Notice of the institution of the Commission's investigations and of a public conference to be held in connection therewith was given by posting copies of the notice in the Office of the Secretary, U.S. International Trade Commission, Washington, DC, and by publishing the notice in the Federal Register of March 4, 2025 (90 FR 11180). The Commission conducted its conference on March 19, 2025. All persons who requested the opportunity were permitted to participate.

The Commission made these determinations pursuant to §§ 703(a) and 733(a) of the Act (19 U.S.C. 1671b(a) and 1673b(a)). It completed and filed its determinations in these investigations on April 14, 2025. The views of the Commission are contained in USITC Publication 5612 (April 2025), entitled Chassis and Subassemblies from Mexico, Thailand, and Vietnam: Investigation Nos. 701-TA-755-756 and 731-TA-1734-1736 (Preliminary).

By order of the Commission.
Issued: April 14, 2025.
Lisa Barton,
Secretary to the Commission.

[FR Doc. 2025-06672 Filed 4-17-25; 8:45 am]

BILLING CODE 7020-02-P